DEPARTMENT OF ENERGY

Federal Energy Regulatory Commission

[Docket No. CP93-117-003]

San Diego Gas & Electric Company; Notice of Application for Amended Section 3 Authorization and Presidential Permit

March 15, 2004.

On March 5, 2004, San Diego Gas & Electric Company (SDG&E), 8330 Century Park Court, San Diego, CA 92123, filed in Docket No. CP93-117-003, an application pursuant to section 3 of the Natural Gas Act (NGA) and part 153 of the regulations of the Federal Energy Regulatory Commission (Commission), for an order amending previous authorization and Presidential Permit for the siting, construction, and operation of pipeline and metering facilities for the export of natural gas at the International Boundary between the United States and Mexico in San Diego County, California. SDG&E states that it seeks authorization to modify these facilities to enable gas to be imported as well as exported through the facilities, pursuant to a mutual assistance agreement with a Mexican utility, all as more fully set forth in the application which is on file with the Commission and open to public inspection.

This filing is available for review at the Commission in the Public Reference Room or may be viewed on the Commission's Web site at http://www.ferc.gov using the “e-Library” link. Enter the docket number excluding the last three digits in the docket number field to access the document. For assistance, contact FERC Online Support at FERCOnlineSupport@ferc.gov or call toll free at (866) 208-3676, or for TTY contact (202) 502-8659.

Any questions concerning this application may be directed to Carolyn F. Corwin, Covington & Burling, 1201 Pennslyvania Avenue, NW., Washington, DC 20004, or call (202) 662-5338 or fax (202) 778-5338.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on Commission's web site under the “e-Filing” link. The Commission strongly encourages electronic filings. If the Commission decides to set the application for a formal hearing before an Administrative Law Judge, the Commission will issue another notice describing that process. At the end of the Commission's review process, a final Commission order approving or denying a certificate will be issued.

Comment Date: April 1, 2004.

Magalie R. Salas,
Secretary.

[FR Doc. E4-638 Filed 3-19-04; 8:45 am]

BILLING CODE 6717-01-P